DEPARTMENT OF ENERGY

Federal Energy Regulatory Commission

[Docket No. ER03-548-001, et al.]

Citizens Communications Company, et al.; Electric Rate and Corporate Filings

April 17, 2003.

The following filings have been made with the Commission. The filings are listed in ascending order within each docket classification.

1. Citizens Communications Company

[Docket No. ER03-548-001]

Take notice that on April 11, 2003, Citizens Communications Company (Citizens) tendered for filing six copies of a Notice of Cancellation of Rate Schedule 46, applicable to sales-for-resale service to Mohave Electric Cooperative.

Citizens states that copies of this filing have been served to Mohave Electric Cooperative and Arizona Corporation Commission.

Comment Date: May 2, 2003.

2. California Independent System Operator Corporation

[Docket No. ER03-746-000]

Take notice that on April 15, 2003 the California Independent System Operator Corporation (ISO) tendered for filing with the Commission, Amendment No. 51 to the ISO Tariff. ISO states that the purpose of Amendment No. 51 is to modify the Tariff to facilitate conducting market re-runs necessary in anticipation of the major market re-run required by the Commission in Docket No. EL00-95-000, et al.The ISO states that this filing has been served on the Public Utilities Commission of the State of California, the California Energy Commission, the California Electricity Oversight Board, and all parties with effective Scheduling Coordinator Agreements under the ISO Tariff.

The ISO is requesting waiver of the 60-day notice requirement to allow Amendment No. 51 to be made effective May 1, 2003.

Comment Date: May 6, 2003.

3. American Ref-Fuel Company of Hempstead

[Docket No. ER03-747-000]

Take notice that on April 15, 2003, American Ref-Fuel Company of Hempstead (ARC-Hempstead) tendered for filing a proposed supplement to ARC-Hempstead's FERC Electric Tariff, Original Volume No. 1, which governs sales of energy from ARC-Hempstead to Long Island Lighting Company d/b/a LIPA, under Section 205 of the Federal Power Act, 16 U.S.C. 824d, and part 35 of the Commission's Regulations.

Comment Date: May 6, 2003.

4. Wolverine Power Supply Cooperative, Inc.

[Docket No. ER03-748-000]

Take notice that on April 15, 2003, Wolverine Power Supply Cooperative, Inc., submitted for filing a Petition for Waiver of Pre-Order No. 2001 Filing Requirements, and requested that the Commission waive the requirement for the filing of the Power Sales Agreement.

Comment Date: May 6, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202) 502-8659. Protests and interventions may be filed electronically via the Internet in lieu of paper; see 18 CFR 385.2001(a)(1)(iii) and the instructions on the Commission's Web site under the “e-Filing” link. The Commission strongly encourages electronic filings.

[FR Doc. 03-10204 Filed 4-23-03; 8:45 am]

BILLING CODE 6717-01-P